DEPARTMENT OF HOMELAND SECURITY

Federal Emergency Management Agency

[Docket ID FEMA-2013-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of January 8, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

Community | Community map repository address
Russell County, Alabama, and Incorporated Areas
Docket No.: FEMA-B-1275
City of Phenix City | City Hall, 601 12th Street, Phenix City AL 36867.
Unincorporated Areas of Russell County | Russell County Courthouse, 501 14th Street, Phenix City, AL 36867.
Kendall County, Illinois, and Incorporated Areas
Docket No.: FEMA-B-1282
City of Joliet | City Hall, 150 West Jefferson Street, Joliet, IL 60432.
City of Yorkville | City Hall, 800 Game Farm Road, Yorkville, IL 60560.
Unincorporated Areas of Kendall County | Kendall County Planning, Building and Zoning Office, 111 West Fox Street, Yorkville, IL 60560.
Village of Montgomery | Village Hall, 200 North River Street, Montgomery, IL 60538.
Village of Plattville | Kendall County Planning, Building, and Zoning Office, 111 West Fox Road, Yorkville, IL 60560.
White County, Indiana, and Incorporated Areas
Docket No.: FEMA-B-1270
City of Monticello | White County Government Center, 110 North Main Street, Monticello, IN 47960.
Town of Brookston | White County Government Center, 110 North Main Street, Monticello, IN 47960.
Town of Monon | White County Government Center, 110 North Main Street, Monticello, IN 47960.
Unincorporated Areas of White County | White County Government Center, 110 North Main Street, Monticello, IN 47960.
Jefferson County, New York (All Jurisdictions)
Docket No.: FEMA-B-1267
Town of LeRay | LeRay Municipal Offices, 8650 LeRay Street, Evans Mills, NY 13637.
Village of Black River | Village Office, 107 Jefferson Place, Black River, NY 13612.

(Catalog of Federal Domestic Assistance No. 97.022, “Flood Insurance.”)

Dated: July 26, 2013.
Roy E. Wright,
Deputy Associate Administrator for Mitigation, Department of Homeland Security, Federal Emergency Management Agency.

[FR Doc. 2013-19432 Filed 8-9-13; 8:45 am]

BILLING CODE 9110-12-P